JUDICIAL CONFERENCE OF THE UNITED STATES

Committee on Rules of Practice and Procedure; Meeting of the Judicial Conference

AGENCY: Judicial Conference of the United States.

ACTION: Committee on Rules of Practice and Procedure; notice of open meeting.

SUMMARY: The Committee on Rules of Practice and Procedure will hold an in-person meeting in hybrid format with remote attendance options on June 10, 2025 in Washington, DC. The meeting is open to the public for observation but not participation. Please see the Supplementary Information section in this notice for instructions on observing the meeting.

DATES: June 10, 2025 (meeting date) and June 3, 2025 (registration deadline for in-person observation).

ADDRESSES: An agenda and supporting materials will be posted at least 7 days in advance of the meeting at: https://www.uscourts.gov/forms-rules/records-rules-committees/agenda-books.

FOR FURTHER INFORMATION CONTACT: Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: To observe the meeting in person, individuals must contact the office listed above by 5 p.m. (eastern time) on June 3, 2025. After this deadline, only remote observation is permitted. Remote registration is available until the meeting date, provided it is completed before the projected end time.

(Authority: 28 U.S.C. 2073.)

Dated: April 11, 2025.
Shelly L. Cox,
Management Analyst, Rules Committee Staff.

[FR Doc. 2025-06521 Filed 4-16-25; 8:45 am]

BILLING CODE 2210-55-P